DEPARTMENT OF HEALTH AND HUMAN SERVICES

Centers for Disease Control and Prevention

Mine Safety and Health Research Advisory Committee, National Institute for Occupational Safety and Health (NIOSH)

In accordance with section 10(a)(2) of the Federal Advisory Committee Act (Pub. L. 92-463), the Centers for Disease Control and Prevention (CDC) announces the following meeting for the aforementioned committee:

Time and Date: 8 a.m.—5:30 p.m., September 25, 2008.

Place: Hilton Garden Inn, 7830 S. Las Vegas Boulevard, Las Vegas, Nevada 89123, telephone (702) 453-7830, fax (702) 453-7850.

Status: Open to public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: The meeting will focus on diesel monitoring and control research, communications and tracking developments, training research, chemical hazards in mining, and dust monitoring and control research. The agenda will also include an update from the Associate Director for Mining, NIOSH.

Agenda items are subject to change as priorities dictate.

CONTACT PERSON FOR MORE INFORMATION: Jeffery L. Kohler, PhD, Executive Secretary, Mine Safety and Health Research Advisory Committee, NIOSH, CDC, 626 Cochrans Mill Road, Pittsburgh, Pennsylvania 15236, telephone: (412) 386-5301, Fax (412) 386-5300.

The Director, Management Analysis and Services Office, has been delegated the authority to sign Federal Register notices pertaining to announcements of meetings and other committee management activities for both the Centers for Disease Control and Prevention and the Agency for Toxic Substances and Disease Registry.

Dated: August 13, 2008.
Elaine L. Baker,
Director, Management Analysis and Services Office, Centers for Disease Control and Prevention.

[FR Doc. E8-19240 Filed 8-19-08; 8:45 am]

BILLING CODE 4163-18-P